DEPARTMENT OF AGRICULTURE

Animal and Plant Health Inspection Service

[Docket No. APHIS-2022-0071]

Notice of Request for Extension of Approval of an Information Collection; Case-Control Study on Highly Pathogenic Avian Influenza in Turkeys

AGENCY: Animal and Plant Health Inspection Service, USDA.

ACTION: Extension of approval of an information collection; comment request.

SUMMARY: In accordance with the Paperwork Reduction Act of 1995, this notice announces the Animal and Plant Health Inspection Service's intention to request an extension of approval of an information collection associated with the case-control study on highly pathogenic avian influenza in U.S. commercial turkey flocks.

DATES: We will consider all comments that we receive on or before February 14, 2023.

ADDRESSES: You may submit comments by either of the following methods:

• Federal eRulemaking Portal: Go to www.regulations.gov. Enter APHIS-2022-0071 in the Search field. Select the Documents tab, then select the Comment button in the list of documents.

• Postal Mail/Commercial Delivery: Send your comment to Docket No. APHIS-2022-0071, Regulatory Analysis and Development, PPD, APHIS, Station 3A-03.8, 4700 River Road Unit 118, Riverdale, MD 20737-1238.

Supporting documents and any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the HPAI in turkeys study, contact Dr. Victoria Fields, Veterinary Medical Officer, Center for Epidemiology and Animal Health, VS, APHIS, 2150 Centre Avenue, Building B, Fort Collins, CO 80526; (970) 286-1514; Victoria.Fields@usda.gov. For information on the information collection process, contact Mr. Joseph Moxey, APHIS' Paperwork Reduction Act Coordinator, at (301) 851-2483; joseph.moxey@usda.gov.

SUPPLEMENTARY INFORMATION:

Title: Case-Control Study on Highly Pathogenic Avian Influenza in Turkeys.

OMB Control Number: 0579-0484.

Type of Request: Extension of approval of an information collection.

Abstract: Under the Animal Health Protection Act (7 U.S.C. 8301 et seq.), the Secretary of Agriculture is authorized to protect the health of livestock, poultry, and aquaculture populations in the United States by preventing the introduction and interstate spread of serious diseases and pests of livestock, poultry, and aquaculture, and for eradicating such diseases within the United States when feasible. This authority has been delegated to the Animal and Plant Health Inspection Service (APHIS).

Highly pathogenic avian influenza (HPAI) is an infectious and fatal disease of poultry. Between February and September 2022, APHIS mobilized over 1,300 employees to respond to outbreaks of HPAI within the United States. As of the end of May 2022, nearly $800 million in Federal expenditures had been authorized to support emergency response work in relation to HPAI, which affected over 45 million birds. Commercial turkey farms comprise the highest percentage of affected commercial farms in the 2022 outbreak. In fact, over 70 percent of all affected commercial farms are turkey farms.

As the risk of a resurgence of new infections increases, it is critical to identify current risk factors to mitigate future outbreaks. Avian influenza viruses vary in transmissibility and ability to cause disease symptoms. Evidence suggests that the predominance of infections in 2022 have been due to independent wild bird introductions.

APHIS initiated an HPAI in turkey flocks study in 2022 and is seeking approval to continue it as needed to generate up-to-date information for determining current risk factors for infection with this environmentally hardy foreign animal disease pathogen. Current information on risk factors is critical for science-based updates to prevention and control recommendations.

The information collection activity associated with this study consists of a multi-question survey administered to commercial turkey producers.

APHIS requested and was granted emergency approval by the Office of Management and Budget (OMB) to use this information collection activity for 6 months. We are asking OMB to approve our use of this information collection activity for an additional 3 years so that we may continue collecting relevant data during unanticipated future outbreaks.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.40 hours per response.

Respondents: State agricultural officials and turkey producers.

Estimated annual number of respondents: 920.

Estimated annual number of responses per respondent: 1.

Estimated annual number of responses: 920.

Estimated total annual burden on respondents: 364 hours. (Due to averaging, the total annual burden hours may not equal the product of the annual number of responses multiplied by the reporting burden per response.)

All responses to this notice will be summarized and included in the request for OMB approval. All comments will also become a matter of public record.

Done in Washington, DC, this 13th day of December 2022.
Anthony Shea,
Administrator, Animal and Plant Health Inspection Service.

[FR Doc. 2022-27282 Filed 12-15-22; 8:45 am]

BILLING CODE 3410-34-P